DEPARTMENT OF ENERGY

Federal Energy Regulatory Commission

[Docket Nos. CP05-92-001; CP05-93-001; CP05-94-002]

Liberty Gas Storage LLC; Notice of Application To Amend Certificate

September 13, 2006.

Take notice that on September 7, 2006, Liberty Gas Storage LLC (Liberty), 101 Ash Street, San Diego, CA 92101, filed in the above referenced dockets, an application pursuant to section 7(c) of the Natural Gas Act (NGA), requesting authorization to amend its certificate of public convenience and necessity that was issued pursuant to section 7 of the NGA, and its blanket certificates issued pursuant to 18 CFR Parts 157 and 284, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Specifically, Liberty requests authorization from the Commission to enter into a transaction necessary for Liberty to receive a real property tax exemption with respect to the pipeline, compression and appurtenant facilities in Calcasieu Parish, Louisiana that have been authorized by the Commission. The transaction will consist of the transfer of legal title to such facilities to a local governmental agency, the Industrial Development Board of Calcasieu Parish, Louisiana (Development Board). The Development Board will, upon transfer of title, lease the facilities back to Liberty. Liberty will thus retain operational control of, and responsibility for, the facilities. Liberty asserts that the transaction will have no effect on the natural gas storage and other services that Liberty will provide to its customers. Upon termination of the lease, Liberty will reacquire title to the facilities.

Any questions regarding Liberty Gas Storage, LLC's application should be directed to: William D. Rapp, Senior Regulatory Counsel, Sempra Energy, 101 Ash Street, HQ 13, San Diego, CA 92101, phone: (619) 699-5050, e-mail: wrapp@sempra.com; or to: Stacy Van Goor, Director, Federal Energy Regulatory Affairs, Sempra Global, 101 Ash Street, HQ 8, San Diego, CA 92101, phone (619)696-2264, e-mail: svangoor@sempraglobal.com.

There are two ways to become involved in the Commission's review of this project. First, any person wishing to obtain legal status by becoming a party to the proceedings for this project should, on or before the comment date, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link.

Comment Date: October 4, 2006

Magalie R. Salas,
Secretary.

[FR Doc. E6-15525 Filed 9-18-06; 8:45 am]

BILLING CODE 6717-01-P